DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Surveys of Safety Net Providers for the Healthy Communities Access Program National Evaluation—New

The Bureau of Primary Health Care, Health Resources and Services Administration, is conducting a national evaluation of the Healthy Communities Access Program (HCAP) as required by section 340(i) of the Public Health Service Act (42 U.S.C. 256) Public Law 107-251, Oct. 26, 2002.

Surveys of Safety Net Providers and Consortium Leaders will be performed to provide essential information not otherwise available for the national evaluation. Based on consortia response rates of 70% for the provider survey and 75% for the consortia leader survey, it is estimated that 405 Safety Net Providers and 145 Consortia Leaders will complete the surveys.

A preliminary review of the sampling frame for safety net providers indicates that the allocated sample provides adequate representation of all provider types of interest. Legislatively required provider members of HCAP consortia are included in the sample, i.e., hospitals, federally qualified health centers, public health departments, and public/private providers that serve the medically underinsured and underserved. The survey results will be considered along with information from other quantitative and qualitative data sources (including national, State and local data and information from grantee consortia leaders and clients) in order to develop a Report to Congress in September 2005 and a national evaluation report by September 2006. The survey will collect data for key evaluation goals including coordination and integration of safety net services, capacity and access issues, health care delivery, quality of care, cost savings, sustainability, and provider and patient satisfaction.

The survey of the HCAP consortia leaders, who typically are project directors, is a short Web-based survey of 12 questions that will be available through the HRSA HCAP Web site. The sample of eligible consortia includes all those who have received HCAP funding, with the exception of the most recent round of HCAP grantees. These grantees were excluded from the sample because they lack program experience that would provide the evaluation with significant information. This survey will be used to assess consortia leaders' perspectives on the strengths and limitations of using consortia to strengthen the community safety net. It will query leaders on the perceived efficacy of the consortia approach, accomplishments, strengths, weaknesses and suggestions/areas for future improvement of the program. The burden estimate is as follows:

Data collection | Number of respondents | Responses per respondent | Total responses | Hours per response | Total burden hours
Provider Survey | 405 | 1 | 405 | .33 | 134
Consortia Leaders Survey | 145 | 1 | 145 | .25 | 36
Totals | 550 |  | 550 |  | 170

Request for Comments: Written comments and recommendations concerning the proposed information collection should be sent within 30 days of this notice to: Desk Officer, Health Resources and Services Administration, Human Resources and Housing Branch, Office of Management and Budget, New Executive Office Building, Room 10235, Washington, DC 20503.

Dated: January 7, 2005.
Steven A. Pelovitz,
Associate Administrator for Administration and Financial Management.

[FR Doc. 05-671 Filed 1-12-05; 8:45 am]

BILLING CODE 4165-15-P